DEPARTMENT OF HOUSING AND URBAN DEVELOPMENT

[Docket No. FR-5690-N-08]

60-Day Notice of Proposed Information Collection: Housing Choice Voucher (HCV) Family Self-Sufficiency (FSS) Program

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 24, 2013.

ADDRESSES: Interested persons are invited to submit comments regarding this proposal. Comments should refer to the proposal by name/or OMB Control number and should be sent to: Colette Pollard, Reports Management Officer, QDAM, Department of Housing and Urban Development, 451 7th Street SW., Room 4176, Washington, DC 20410-5000; telephone 202-402-5564 (this is not a toll-free number) or email Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109 This is not a toll-free number. Persons with hearing or speech impairments may access this number through TTY by calling the toll-free Federal Relay Service at (800) 877-8339. Copies of available documents submitted to OMB may be obtained from Ms. Mussington.

SUPPLEMENTARY INFORMATION: This notice informs the public that HUD is seeking approval from OMB for the information collection described in Section A.

A. Overview of Information Collection

Title of Information Collection: Family Self-Sufficiency (FSS) Program.

OMB Control Number: 2577-0178.

Type of Request: Revision of currently approved collection.

Agency Form Numbers: HUD-52650, HUD-52651, HUD-52652, HUD-50058, HUD-96011, HUD-96010, HUD-2880, HUD-2994-A, HUD-2991, HUD 52752 HUD 52755, SF-424, SF-LLL, HUD-1044.

Description of the Need for the Information and Proposed Use:

The FSS program, which was established in the National Affordable Housing Act of 1990, promotes the development of local strategies that coordinate the use of public housing assistance and assistance under the Section 8 rental certificate and voucher programs (now known as the Housing Choice Voucher Program) with public and private resources to enable eligible families to increase earned income and financial literacy, reduce or eliminate the need for welfare assistance, and make progress toward economic independence and self-sufficiency. Public Housing Agencies consult with local officials to develop an Action Plan, enter into a Contract of Participation with each eligible family that opts to participate in the program, compute an escrow credit for the family, report annually to HUD on implementation of the FSS program, and complete a funding application for the salary of an FSS program coordinator.

Respondents (i.e. affected public): Public Housing Agencies, Tribes/Tribally Designated Housing Entities, State or Local Governments.

Estimated Annual Reporting and Recordkeeping Burden
Description of information collection | Number of respondents | Responses per year | Total annual responses | Hours per response | Total hours
SF424—Application for Federal Assistance | 1,000 | 1 | 1,000 | 0.75 | 750
SF LLL—Disclosure of Lobbying Activities | 40 | 1 | 40 | 0.17 | 7
HUD 2880—Applicant/Recipient/Disclosure/Update Form (OMB No. 2510-0011) | 1,000 | 1 | 1,000 | 0 | 0
HUD 96011—Facsimile Transmittal (OMB No. 2535-0118) | 1,000 | 1 | 1,000 | 0 | 0
HUD-2991—Certification of Consistency with the Consolidated Plan (OMB No. 2506-0112) | 1,000 | 1 | 1,000 | 0 | 0
HUD 52752—Certification of Consistency with the Indian Housing Plan | 15 | 1 | 15 | 0.25 | 4
HUD-52755—Sample Contract Admin. Partnership Agreement | 40 | 1 | 40 | 0.17 | 7
HUD-2994—A You are Our Client (OMB no: 2535-0116) | 750 | 1 | 750 | 0 | 0
HUD-52651—FSS Application | 1,000 | 1 | 1,000 | 1 | 1,000
HUD 96010—Logic Model (OMB No. 2535-0114) | 1,000 | 1 | 1,000 | 0 | 0
Subtotal (Application) |  |  |  | 2.1 | 1,768
Action Plan | 10 | 1 | 10 | 10 | 100
HUD-52650—Contract of Participation | 900 | 10 | 9,000 | .25 | 2,250
HUD-52652—Escrow Account Credit Worksheet | 750 | 50 | 37,500 | .85 | 31,875
HUD-1044—Grant Agreement* | 250 | 1 | 250 | N/A | N/A
Annual Report (Narrative) | 900 | 1 | 900 | 1 | 900
HUD 96010—Logic Model (OMB No. 2535-0114) | 900 | 1 | 900 | 0 | 0
HUD-50058—Family Report (OMB No. 2577-0083) | 900 | 50 | 45,000 | 0 | 0
Subtotal (Program Reporting/Recordkeeping) |  |  |  | 12.1 | 35,125
Total |  |  |  | 14.2 | 36,893

B. Solicitation of Public Comment

This notice is soliciting comments from members of the pubic and affected parties concerning the collection of information described in Section A on the following:

(1) Whether the proposed collection of information is necessary for the proper performance of the functions of the agency, including whether the information will have practical utility;

(2) The accuracy of the agency's estimate of burden of the proposed collection of information;

(3) Ways to enhance the quality, utility and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 19, 2013.
Merrie Nichols-Dixon,
Deputy Director for Office of Policy, Programs, and Legislative Initiatives.

[FR Doc. 2013-17999 Filed 7-25-13; 8:45 am]

BILLING CODE 4210-67-P